FEDERAL RETIREMENT THRIFT INVESTMENT BOARD

Sunshine Act; Notice of Meeting

Time and Date:

9 a.m. (Eastern Time), November 19, 2007.

Place: 4th Floor Conference Room, 1250 H Street, NW., Washington, DC 20005.

Status: Open.

Matters to be Considered: 1. Approval of the minutes of the October 15, 2007 Board member meeting.

2. Executive Director's Report:

a. Monthly Participant Activity Report.

b. Monthly Investment Performance Report.

c. Legislative Report.

3. Trade Pattern Analysis

4. Internal Controls Initiative

Contact Person for More Information: Thomas J. Trabucco, Director, Office of External Affairs, (202) 942-1640.

Dated: October 29, 2007.
Thomas K. Emswiler,
Secretary to the Board, Federal Retirement Thrift Investment Board.

[FR Doc. 07-5436 Filed 10-29-07; 12:33pm]

BILLING CODE 6760-01-P